DEPARTMENT OF AGRICULTURE

Commodity Credit Corporation

Natural Resources Conservation Service

RIN 0578-AA36

Conservation Security Program

AGENCY: Natural Resources Conservation Service and Commodity Credit Corporation, USDA.

ACTION: Notice.

DATES: The administrative actions announced in the notice are effective on June 21, 2004

FOR FURTHER INFORMATION CONTACT: Craig Derickson, Conservation Security Program Manager, Financial Assistance Programs Division, NRCS, P.O. Box 2890, Washington, DC 20013-2890, telephone: (202) 720-1845; fax: (202) 720-4265. Submit e-mail to: craig.derickson@usda.gov, Attention: Conservation Security Program.

SUMMARY: This document announces the first sign-up for the Conservation Security Program. This sign-up for the Conservation Security Program (CSP) will be open from July 6, 2004, through July 30, 2004, in selected 8-digit watersheds in Arkansas, Georgia, Idaho, Illinois, Indiana, Iowa, Kansas, Michigan, Minnesota, Missouri, Montana, Nebraska, New Mexico, North Dakota, Ohio, Oklahoma, Oregon, Pennsylvania, South Carolina, Texas, Washington, and Wisconsin.

SUPPLEMENTARY INFORMATION: In an Interim Final Rule published elsewhere in this issue of the Federal Register, USDA's Natural Resources Conservation Service (NRCS) established the Conservation Security Program (CSP). The CSP is a voluntary program administered by NRCS using authorities and funds of the Commodity Credit Corporation, that provides financial and technical assistance to producers who advance the conservation and improvement of soil, water, air, energy, plant and animal life, and other conservation purposes on Tribal and private working lands. On May 4, 2004, NRCS published a notice in the Federal Register (69 FR 24560), announcing the process NRCS will use in determining priority watershed, and the details of the enrollment categories that will be used in the FY 2004 sign-up.

This document announces that the first sign-up for the CSP will be open from July 6 through July 30, 2004 in selected 8-digit watersheds in Arkansas, Georgia, Idaho, Illinois, Indiana, Iowa, Kansas, Michigan, Minnesota, Missouri, Montana, Nebraska, New Mexico, North Dakota, Ohio, Oklahoma, Oregon, Pennsylvania, South Carolina, Texas, Washington, and Wisconsin, which can be viewed at http://www.nrcs.usda.gov/programs/csp/watersheds04.html.

These watersheds were selected using the process set forth in the May 4, 2004, notice to the Federal Register. In addition to other data sources, this process used National Resources Inventory data to assess land use, agricultural input intensity, and historic conservation stewardship in watersheds nationwide. A list of candidate watersheds was generated. State Conservationists were queried and watersheds were excluded based on the assessment of locations where staff capacity was inadequate, soils were not digitized, and required technical tools, specifically the Revised Uniform Soil Loss Equation Version 2.0 (RUSLE2) and Toolkit would not be fully operational for a 2004 sign-up.

Watersheds were also evaluated from a national perspective in consultation with State Conservationists regarding regional resource issues that would enhance CSP's environmental goals. Preference was given to two watersheds, the Lemhi and Hondo watersheds, where improving resources would assist the recovery of threatened and endangered species or add measurably to critical resource recovery efforts and extensive watershed level measures were in place.

To be eligible for CSP, a majority of the agricultural operation must be within the limits of the watershed. Applications which meet the minimum requirements as set forth in the final rule (listed below) will be placed in enrollment categories for funding consideration. Categories will be funded in order from A through H until funds are exhausted. If funds are not available to fund an entire category, then the applications will fall into subcategories and funded in order until funds are exhausted.

Applicants can submit only one application for this sign-up. Producers should begin the application process by filling out a self assessment to determine if they meet the basic qualification for CSP. Self assessment workbooks are available in hard copy at USDA Service Centers within the watersheds, and electronically for download or an interactive Web site linked from www.nrcs.usda.gov/programs/csp. The self assessment workbook includes a benchmark inventory where the applicant documents the conservation practices and activities that are ongoing on their operation. This benchmark inventory serves as the basis for the stewardship plan.

In order to apply, applicants must submit:

1. A completed self assessment workbook, including the benchmark inventory;

2. Documentation for calendar years 2002 and 2003 to show the stewardship completed including fertilizer, nutrient, and pesticide application schedules, tillage, and grazing schedules.

3. Completed CCC-1200 available through the self assessment online guide, Web site, and any USDA Service Center.

Applicants are encouraged to attend preliminary workshops, which will be announced locally, the basic qualifications will be explained, and assistance provided to complete the self assessment workbook and benchmark inventory.

CSP is offered at three tiers of participation. Some payments are adjusted based on the tier, and some payments are tier-neutral. See payment information below.

Minimum Tier Eligibility and Contract Requirements

The following are the minimum tier eligibility and contract requirements:

CSP Tier I—the benchmark condition inventory demonstrates to the satisfaction of NRCS that the applicant has addressed the nationally significant resource concerns of water quality and soil quality to the minimum level of treatment for any landuse on part of the agricultural operation. Only the acreage meeting such requirements is eligible for stewardship and existing practice payments in CSP.

CSP Tier II—the benchmark condition inventory demonstrates to the satisfaction of NRCS that the applicant has addressed the nationally significant resource concerns of water quality and soil quality to the minimum level of treatment for all land uses on the entire agricultural operation. Additionally, the applicant must agree to add another significant resource concern of their choice to be completed by the end of the contract period.

CSP Tier III—the benchmark condition inventory demonstrates to the satisfaction of NRCS that the applicant has addressed all of the existing resource concerns listed in Section III of the NRCS Field Office Technical Guide with a resource management system that meets the minimum level of treatment on the entire agricultural operation, including other land.

Delineation of the Agriculture Operation

Delineating an agriculture operation for the Conservation Security Program is an important part in determining the Tier of the contract, stewardship payments, and the required level of conservation treatment needed for participation. The applicant will delineate the agriculture operation to include all agricultural lands, and other lands such as farmstead, feedlots, and headquarters and incidental forestlands, under the control of the participant and constituting a cohesive management unit that is operated with equipment, labor, accounting system, and management that is substantially separate from any other. In delineating the agriculture operation, Farm Service Agency farm boundaries may be used. If farm boundaries are used in the application, the entire farm area must be included within the delineation. An applicant may offer one farm or aggregate farms into one agriculture operation.

Minimum Eligibility Requirements

To be eligible to participate in CSP, the applicants must meet the requirements for eligible applicants, the land offered under contract must meet the definition of eligible land, and the application must meet the conservation standards for that land as described below.

Eligible Applicants

To be eligible to participate, an applicant must:

(1) Be in compliance with the highly erodible land and wetland conservation provisions;

(2) Tenants must show control of the land for the life of the proposed contract period by providing NRCS with the written evidence or assurance of control from the landowner. In the case of land allotted by the Bureau of Indian Affairs (BIA) or tribal land, there is considered to be sufficient assurance of control.

(3) Share in risk of producing any crop or livestock and be entitled to share in the crop or livestock available for marketing from the agriculture operation landlords and owners are ineligible to submit an application for exclusively cash rented agriculture operations.

(4) Complete a benchmark condition inventory for the entire agricultural operation or the portion being enrolled in accordance with § 1469.7(a) in the Interim Final Rule;

(5) Supply information, as required by NRCS, to determine eligibility for the program; including but not limited to, information related to eligibility criteria in this sign-up announcement; and information to verify the applicant's status as a beginning farmer or rancher if applicable.

Eligible Land

To be eligible for enrollment in CSP, land must be:

(1) Private agricultural land;

(2) Private non-industrial forested land that is an incidental part of the agriculture operation;

(3) Agricultural land that is Tribal, allotted, or Indian trust land;

(4) Other incidental parcels, as determined by NRCS, which may include, but are not limited to, land within the bounds of working agricultural land or small adjacent areas (such as center pivot corners, linear practices, field borders, turn rows, intermingled small wet areas or riparian areas); or

(5) Other land on which NRCS determines that conservation treatment will contribute to an improvement in an identified natural resource concern, including areas outside the boundary of the agricultural operation or enrolled parcel such as farmsteads, ranch sites, barnyards, feedlots, equipment storage areas, material handling facilities, and other such developed areas. Other land must be treated in Tier III contracts.

Land Not Eligible for Enrollment in CSP

The following lands are ineligible for enrollment in CSP:

(1) Land enrolled in the Conservation Reserve Program, the Wetlands Reserve Program, or the Grassland Reserve Program; and

(2) Public land including land owned by a Federal, State, or Local unit of government.

Land referred to above may not receive CSP payments, but the conservation work on this land may be used to determine if an applicant meets eligibility criteria for the agricultural operation and may be described in the Conservation Stewardship Plan.

Land Not Eligible for Any Payment Component in CSP

Land that is used for crop production after May 13, 2002, that had not been planted, considered to be planted, or devoted to crop production, as determined by NRCS, for at least 4 of the 6 years preceding May 13, 2002, is not eligible for any payment component in CSP.

Conservation Standards for Tier I and Tier II

The following conservation standards apply for Tier I and Tier II:

1. The minimum level of treatment on cropland:

(i) The minimum level of treatment for soil quality on cropland is considered achieved when the Soil Conditioning Index is positive;

(ii) The minimum level of treatment for water quality on cropland is considered achieved if the benchmark inventory indicates that the current level of treatment meets or exceeds the quality criteria according to the NRCS technical guides for these specific resource considerations: nutrients, pesticides, salinity and sediment for surface waters and nutrients, pesticides, and salinity for groundwater, if applicable.

2. The minimum level of treatment on pastureland and rangelands for Tier I and Tier II is vegetation and animal management, which enhances the soil resource by following a grazing management plan that provides a forage animal balance, proper livestock distribution, and timing of use and managing livestock access to water courses.

Conservation Standards for Tier III

The minimum level of treatment for Tier III on any landuse is meeting the quality criteria for the local NRCS FOTG for all existing resource concerns with these exceptions:

(A) The minimum requirement for soil quality on cropland is considered achieved when the Soil Conditioning Index value is positive.

(B) The minimum requirement for water quality—irrigation water management on cropland or pastureland is considered achieved when the current level of treatment and management for the system results in a water use efficiency value of at least 50%.

(C) The minimum requirement for wildlife is considered achieved when the current level of treatment and management for the system results in a value of at least 0.5 on the NRCS wildlife habitat index.

CSP Contract Payments and Limits

CSP contract payments include one or more of the following components subject to the described limits:

• An annual per acre stewardship component for the benchmark conservation treatment. This component is calculated separately for each land use by multiplying the number of acres times the tier factor (0.05 for Tier I, 0.10 for Tier II, and 0.15 for Tier III) times the stewardship payment rate established for the watershed times the tier reduction factor (0.25 for Tier I and 0.50 for Tier II, and 0.75 for Tier III).

• An annual existing practice component for maintaining existing conservation practices. Existing practice payments will be calculated as a flat rate of 25% of the stewardship payment.

• A new practice component for additional practices on the watershed specific list. New practice payments will be made at not more than a 50% cost-share rate and are limited to $10,000 cumulative total for the contract.

• An annual enhancement component for exceptional conservation effort and additional conservation practices or activities that provide increased resource benefits beyond the prescribed level. Enhancement payments will not exceed $10,000 for Tier I, $17,500 for Tier II, and $22,500 for Tier III annually.

• An advance enhancement payment, not-to-exceed $10,000, available in the FY 2004 sign-up. The advance enhancement payment is available to contracts with an initial enhancement payment as determined in the benchmark inventory and interview. The advance enhancement payment would shift that annual enhancement payment amount into the first year payment and deduct it from the following year's payments. This is in addition to the enhancement payment limit.

Tier I contracts are for a 5 year duration, Tier II and Tier III contracts are for a 5 to 10 year duration at the option of the participant.

The combined stewardship, existing practice, and enhancement payments cannot exceed the following contract limits:

• Tier I—15% of the stewardship rate times the enrolled acres

• Tier II—25% of the stewardship rate times the enrolled acres

• Tier III—40% of the stewardship rate times the enrolled acres

Total annual maximum payments limits are $20,000 for Tier I, $35,000 for Tier II, and $45,000 for Tier III.

The payment components are tailored for the selected watersheds. For more details, call or visit the local USDA Service Center, or view on the Web at http://www.nrcs.usda.gov/programs/csp/watersheds04.html.

Enhancement Components Available in This Sign-up

The following are the enhancement components available this sign-up:

1. Additional conservation treatment above the quality criteria for soil quality, nutrient management, pest management, irrigation water management, prescribed grazing, and energy management; and

2. Addressing locally identified conservation needs shown on the watershed specific enhancement lists.

The payment components are tailored for the selected watersheds. For more details, call or visit the local USDA Service Center, or view on the Web at http://www.nrcs.usda.gov/programs/csp/watersheds04.html.

The Administration budget projects that about 3000 contracts will be available under this sign-up, with roughly 45 percent of those in Tier I, 45 percent in Tier II, and 10 percent in Tier III.

CSP Enrollment Categories and Subcategories

Technical adjustments to the enrollment categories were made based on field testing of the criteria published in a previous notice. This notice provides updated enrollment category criteria.

The CSP will fund the enrollment categories A through H in alphabetical order (Attachment #1). If an enrollment category cannot be completely funded, then subcategories will be funded in the following order:

1. Applicant is a limited resource producer;

2. Applicant is a participant in an on-going monitoring program;

3. Agricultural operation in a designated water conservation area or aquifer zone;

4. Agricultural operation in a designated drought area;

5. Agricultural operation in a designated water quality area, such as designated watersheds with Total Maximum Daily Loading (TMDL) limits with a priority on pesticides;

6. Agricultural operation in a designated water quality area, such as designated watersheds with TMDL limits with a priority on nutrients;

7. Agricultural operation in a designated water quality area, such as designated watersheds with TMDL limits with a priority on sediment;

8. Agricultural operation in a designated non-attainment area for air quality or other local or regionally designated air quality zones;

9. Agricultural operation in a designated area for threatened and endangered species habitat creation and protection;

10. Participating in an ongoing watersheds plan or conservation project;

11. Agricultural operation is intermingled with public land where there is no way to distinguish the public from the private land for management purposes; and

12. Other applications.

(Designated means “officially assigned a priority by a Federal, State, or local unit of government” prior to this notice.)

If a subcategory cannot be fully funded, applicants will be offered the FY 2004 CSP contract payment on a prorated basis.

Signed in Washington, DC, on June 9, 2004.
Bruce I. Knight,
Vice President, Commodity Credit Corporation, Chief, Natural Resources Conservation Service.

BILLING CODE 3410-16-P

[FR Doc. 04-13540 Filed 6-18-04; 8:45 am]

BILLING CODE 3410-16-C